DEPARTMENT OF THE INTERIOR

Bureau of Indian Affairs

Proposed Agency Information Collection Activities; Comment Request

AGENCY: Bureau of Indian Affairs, Interior.

ACTION: Notice.

SUMMARY: This notice announces that the Information Collection Request for the Indian Child Welfare Act (ICWA) Annual Report requires renewal. The Indian Child Welfare Act Annual Report is required to ensure effectiveness of Indian Child Welfare Act programming. The proposed information collection requirement, with no appreciable changes, described below will be submitted to the Office of Management and Budget (OMB) for review after a public comment period, as required by the Paper Reduction Act of 1995. The Bureau is soliciting public comments on the subject proposal.

DATES: Written comments must be submitted on or before December 3, 2001.

ADDRESSES: Interested parties are invited to submit written comments regarding this proposal. Comments should refer to the proposal by name and/or OMB Control Number and should be sent to Larry Blair, Bureau of Indian Affairs, Department of the Interior, 1849 C Street, NW., MS-4660-MIB, Washington, DC, 20240. Telephone (202) 208-2479.

FOR FURTHER INFORMATION CONTACT: Requests for additional information or copies of the information collection instructions should be directed to Larry Blair, (202) 208-2479.

SUPPLEMENTARY INFORMATION:

I. Abstract

The information collection required by the use of this form is necessary to comply with Public Law 95-608, “The Indian Child Welfare Act” and as codified in 25 CFR Part 23—Indian Child Welfare Act. This information is collected through the use of a consolidated caseload form by tribal Indian Child Act program directors who are the providers of ICWA services. The information is used to determine the extent of service needs in local Indian communities, assessment of the Indian Child Welfare Act program effectiveness, and to provide data for the annual program budget justification. The responses of this collection of information are voluntary and the aggregated report is not considered confidential. The public is not required to respond unless a currently valid OMB control number is displayed.

II. Request for Comments

Please note that all comments received will be available for public review two weeks after publication in the Federal Register. If you wish to have your name and address withheld from review, please make that known at the start of your comments. We specifically request your comments be submitted to the address provided in the ADDRESSES section within 60 days on the following:

1. Whether the collection of information is necessary for the proper performance of the functions of the BIA, including whether the information will have practical utility;

2. The accuracy of the BIA's estimate of the burden of the information collection, including the validity of the methodology and assumptions used;

3. The quality, utility and clarity of the information to be collected; and

4. How to minimize the burden of the information collection on those who are to respond, including the use of appropriate automated electronic, mechanical or other forms of information technology.

III. Data

Title of the Collection of Information: Department of the Interior, Bureau of Indian Affairs, Indian Child Welfare Act Annual Report.

OMB Number: 1076-0131.

Affected Entities: Individual members of Indian tribes who are living on or near a tribally or legally defined service area.

Frequency of Response: Annually.

Estimated Number of Annual Responses: 554.

Estimated Time per Application: One-half hour.

Estimated Total Annual Burden Hours: 277 hours.

Dated: September 24, 2001.
Neal A. McCaleb,
Assistant Secretary—Indian Affairs.

[FR Doc. 01-24581 Filed 10-1-01; 8:45 am]

BILLING CODE 4310-02-P